DEPARTMENT OF COMMERCE

International Trade Administration

[A-533-838]

Carbazole Violet Pigment 23 From India: Extension of Time Limit for Preliminary Results of Antidumping Duty Administrative Review

AGENCY: Import Administration, International Trade Administration, Department of Commerce.

FOR FURTHER INFORMATION CONTACT: Jerrold Freeman or Richard Rimlinger, AD/CVD Operations, Office 5, Import Administration, International Trade Administration, U.S. Department of Commerce, 14th Street and Constitution Avenue, NW, Washington, DC, 20230; telephone: (202) 482-0180 or (202) 482-4477, respectively.

SUPPLEMENTARY INFORMATION:

Background

At the request of interested parties, the Department of Commerce (the Department) initiated an administrative review of the antidumping duty order on carbazole violet pigment 23 from India for the period December 1, 2007, through November 30, 2008. See Initiation of Antidumping and Countervailing Duty Administrative Reviews and Requests for Revocation in Part, 74 FR 5821 (February 2, 2009). On September 3, 2009, we extended the due date for the completion of the preliminary results of review by 75 days. See Carbazole Violet Pigment 23 From India: Extension of Time Limit for Preliminary Results of Antidumping Duty Administrative Review, 74 FR 45610 (September 3, 2009). The preliminary results of the review are currently due no later than November 16, 2009.

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month. See also 19 CFR 351.213(h)(2).

We determine that it is not practicable to complete the preliminary results of this administrative review by the current deadline of November 16, 2009, because we are in the process of analyzing the respondent's recent response to our supplemental questionnaire. Therefore, in accordance with section 751(a)(3)(A) of the Act and 19 CFR 351.213(h)(2), we are extending the time period for issuing the preliminary results of this review by 29 additional days until December 15, 2009. The final results continue to be due 120 days after the publication of the preliminary results.

This notice is published in accordance with sections 751(a)(3)(A) and 777(i)(1) of the Act and 19 CFR 351.213(h)(2).

Dated: November 13, 2009.
John M. Andersen,
Acting Deputy Assistant Secretary for Antidumping and Countervailing Duty Operations.

[FR Doc. E9-27934 Filed 11-19-09; 8:45 am]

BILLING CODE 3510-DS-S